CORPORATION FOR NATIONAL AND COMMUNITY SERVICE

Information Collection; Submission for OMB Review, Comment Request

AGENCY: Corporation for National and Community Service.

ACTION: Notice.

SUMMARY: The Corporation for National and Community Service (CNCS) has submitted a public information collection request (ICR) entitled Senior Corps Foster Grand Parent pilot case study for review and approval in accordance with the Paperwork Reduction Act of 1995, Public Law 104-13, (44 U.S.C. Chapter 35). Copies of this ICR, with applicable supporting documentation, may be obtained by calling the Corporation for National and Community Service, Anthony Nerino, at (202) 606-3913 or email to anerino@cns.gov. Individuals who use a telecommunications device for the deaf (TTY-TDD) may call 1-800-833-3722 between 8:00 a.m. and 8:00 p.m. Eastern Time, Monday through Friday.

ADDRESSES: Comments may be submitted, identified by the title of the information collection activity, to the Office of Information and Regulatory Affairs, Attn: Ms. Sharon Mar, OMB Desk Officer for the Corporation for National and Community Service, by any of the following two methods within 30 days from the date of publication in the Federal Register:

(1) By fax to: (202) 395-6974, Attention: Ms. Sharon Mar, OMB Desk Officer for the Corporation for National and Community Service; or

(2) By email to: smar@omb.eop.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on December 30, 2014. This comment period ended March 2, 2015. No public comments were received from this Notice.

Description: CNCS seeks to implement case studies of selected FGP grantees that are implementing two similar national education models in various service sites. The information is designed to allow CNCS Senior Corps administrators to understand the process and experiences of grantees as they implement national education models including member and beneficiary recruitment, member training, program structure and processes, program modifications specific to FGP, scope and reach of the various projects, and observed outcomes for members and beneficiaries.

The case study instrument will involve interviews and focus groups with current and former FGP project administrators, staff including site supervisors and volunteer coordinators and volunteers at two sites implementing each of two different models—Jumpstart and Reading Partners. Potential sites for inclusion in the study have been drawn from existing and former grantees implementing two national models, Jumpstart and Reading Partners.

Interview and focus group data will be collected via taped and written responses to telephone conversations. Data analysis will focus on identifying and understanding factors associated the process (opportunity costs, benefits, obstacles and preparation) related to the decision to use a model approach to tutoring and educational interventions.

Type of Review: New.

Agency: Corporation for National and Community Service.

Title: The Foster Grand Parent Pilot Case Study.

OMB Number: TBD.

Agency Number: None.

Affected Public: Current and former FGP project administrators, staff, including site supervisors and volunteer coordinators, and volunteers.

Total Respondents: 140 respondents.

Frequency: Once.

Average Time per Response: 60 minutes for interviews (80 participants)/90 minutes for focus groups (60 Participants).

Estimated Total Burden Hours: 170 total hours.

Total Burden Cost (capital/startup): None.

Total Burden Cost (operating/maintenance): None.

Dated: March 25, 2015.
Mary Hyde,
Deputy Director, Office of Research and Evaluation.

[FR Doc. 2015-07241 Filed 3-30-15; 8:45 am]

BILLING CODE 6050-28-P